CONSUMER PRODUCT SAFETY COMMISSION

Sunshine Act Meetings

Federal Register Citation of Previous Announcement: Vol. 75, No. 175, Friday, September 10, 2010, page 55312.

Previously Announced Time and Date of Meeting: 10 a.m.-11 a.m., Wednesday September 15, 2010.

Changes in Meeting: Meeting postponed to September 22, 2010, 10 a.m.-11 a.m. For a recorded message containing the latest agenda information, call (301) 504-7948.

Contact Person for Additional Information: Todd A. Stevenson, Office of the Secretary, 4330 East West Highway, Bethesda, MD 20814 (301) 504-7923.

Dated: September 14, 2010.
Todd A. Stevenson,
Secretary.

[FR Doc. 2010-23276 Filed 9-14-10; 4:15 pm]

BILLING CODE 6355-01-P